DEPARTMENT OF COMMERCE

National Oceanic and Atmospheric Administration

[I.D. 013006F]

Fisheries of the South Atlantic; Public Meeting

AGENCY: National Marine Fisheries Service (NMFS), National Oceanic and Atmospheric Administration (NOAA), Commerce.

ACTION: Notice of the Deepwater Coral Research and Monitoring Plan Development Workshop.

SUMMARY: The South Atlantic Fishery Management Council (Council) will conduct a workshop to continue development of the Council's Deepwater Coral Research and Monitoring Plan in St. Petersburg, FL.

DATES: The workshop will take place March 9-10, 2006. See SUPPLEMENTARY INFORMATION for specific dates and times.

ADDRESSES: The workshop will be held at the Florida Fish and Wildlife Research Institute, 100 Eighth Avenue, S.E., St. Petersburg, FL 33701; telephone: (727) 896-8626; fax: (727) 893-2947.

Council address: South Atlantic Fishery Management Council, One Southpark Circle, Suite 306, Charleston, SC 29407-4699.

FOR FURTHER INFORMATION CONTACT: Kim Iverson, Public Information Officer, telephone: (843) 571-4366 or toll free: (866) SAFMC-10; fax: (843) 769-4520; email: kim.iverson@safmc.net.

SUPPLEMENTARY INFORMATION: Invited workshop participants will meet from 8:30 a.m. - 5 p.m. on March 9, 2006 and from 8:30 a.m. - 1 p.m. on March 10, 2006 to complete a draft of the Council's Deepwater Coral Research and Monitoring Plan. This workshop is a follow up to one held in 2004. The workshop is designed to consolidate and refine sections of the draft document that have been developed through the use of a web portal. When completed, the detailed research and monitoring plan will be immediately integrated into the Council's developing Fishery Ecosystem Plan and support long-term research needs for the proposed deepwater Lophelia coral Habitat Areas of Particular Concern. In addition, the research plan will also comprise the South Atlantic component of NOAA's national strategy for research and monitoring of deepwater coral communities.

Although non-emergency issues not contained in this agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

These meetings are physically accessible to people with disabilities. Requests for auxiliary aids should be directed to the Council office (see ADDRESSES) 3 days prior to the meetings.

Note: The times and sequence specified in this agenda are subject to change.

Dated: January 31, 2006.
Tracey L. Thompson,
Acting Director, Office of Sustainable Fisheries, National Marine Fisheries Service.

[FR Doc. E6-1486 Filed 2-2-06; 8:45 am]

BILLING CODE 3510-22-S